EQUAL EMPLOYMENT OPPORTUNITY COMMISSION

Commission Meeting—Sunshine Act Notice

TIME AND DATE: Thursday, February 26, 2026, 1:00 p.m. Eastern Time.

PLACE: The meeting will be held virtually.

STATUS: The meeting will be closed to the public.

MATTERS TO BE CONSIDERED: The following item will be considered at the meeting:

• Agency Adjudication and Determination on Federal Agency Discrimination Complaint Appeal

Note: The Legal Counsel has certified that, in the Legal Counsel's opinion, the Commission meeting scheduled for February 26, 2026 (and any portions of any subsequent meetings to which those same matters may be carried over) concerning a proposed federal agency discrimination complaint appeal(s) may properly be closed under the third, sixth, seventh, and tenth exemptions to the Government in the Sunshine Act, 5 U.S.C. §§ 552b(c)(3), (6), (7), and (10), and Commission regulations at 29 CFR 1612.4(c), (f), (g), and (j).

In accordance with the Sunshine Act, because this meeting is closed, the public will not be able to observe/listen to the Commission's deliberations and voting.

Please telephone (202) 921-2750 (voice) or email commissionmeetingcomments@eeoc.gov at any time for information on this meeting.

CONTACT PERSON FOR MORE INFORMATION: Raymond Windmiller, Executive Officer, (202) 921-2705.

Dated: February 19, 2026.
Raymond D. Windmiller,
Executive Officer, Executive Secretariat.

[FR Doc. 2026-03532 Filed 2-19-26; 4:15 pm]

BILLING CODE 6570-01-P